SECURITIES AND EXCHANGE COMMISSION

Sunshine Act Meeting; Cancellation

FEDERAL REGISTER CITATION OF PREVIOUS ANNOUNCEMENT: 86 FR 56746, October 12, 2021.

PREVIOUSLY ANNOUNCED TIME AND DATE OF THE MEETING: Wednesday, October 13, 2021 at 10:00 a.m.

CHANGES IN THE MEETING: The Open Meeting scheduled for Wednesday, October 13, 2021 at 10:00 a.m., has been cancelled.

CONTACT PERSON FOR MORE INFORMATION: For further information; please contact Vanessa A. Countryman from the Office of the Secretary at (202) 551-5400.

Authority: 5 U.S.C. 552b.

Dated: October 12, 2021.
Vanessa A. Countryman,
Secretary.

[FR Doc. 2021-22536 Filed 10-12-21; 4:15 pm]

BILLING CODE 8011-01-P